DEPARTMENT OF DEFENSE

Department of the Navy

Notice of Intent To Grant Exclusive Patent License; Point Semantics Corporation

AGENCY: Department of the Navy, DoD.

ACTION: Notice.

SUMMARY: The Department of the Navy hereby gives notice of its intent to grant to Point Semantics Corporation of Alexandria, Virginia an exclusive license in the field of use of Displacement and Strain Measurement for Scientific and Engineering Applications, in the United States, to U.S. Patent No. 8,600,147: System and Method for Remote Measurement of Displacement and Strain Fields, Navy Case No. 099,829.//U.S. Patent No. 9,046,353: System and Method for Remote Full Field Three-Dimensional Displacement and Strain Measurements, Navy Case No. 101,258.//U.S. Patent No. 9,311,566: Method and System for Direct Strain Imaging, Navy Case No. 101.954.// and any continuations, divisionals or re-issues thereof. Nonexclusive, royalty free licenses are retained by SAIC under contract N00173-05-C-2062 and under the Agreement between Owners of Patent Rights NRL-IIA-14-047 between NRL and George Mason University.

DATES: Anyone wishing to object to the grant of this license must file written objections along with supporting evidence, if any, not later than October 19, 2018.

ADDRESSES: Written objections are to be filed with the Naval Research Laboratory, Code 1004, 4555 Overlook Avenue SW, Washington, DC 20375-5320.

FOR FURTHER INFORMATION CONTACT: Amanda Horansky McKinney, Head, Technology Transfer Office, NRL Code 1004, 4555 Overlook Avenue SW, Washington, DC 20375-5320, telephone 202-767-1644. Due to U.S. Postal delays, please fax 202-404-7920, email: techtran@.nrl.navy.mil or use courier delivery to expedite response.

(Authority: 35 U.S.C. 207, 37 CFR part 404.)

Dated: October 1, 2018.
Meredith Steingold Werner,
Lieutenant Commander, Judge Advocate General's Corps, U.S. Navy, Federal Register Liaison Officer.

[FR Doc. 2018-21633 Filed 10-3-18; 8:45 am]

BILLING CODE 3810-FF-P